DEPARTMENT OF VETERANS AFFAIRS

Meeting of the Advisory Committee on Cemeteries and Memorials

The Department of Veterans Affairs (VA) gives notice under the Federal Advisory Committee Act that a meeting of the Advisory Committee on Cemeteries and Memorials will be held on May 15-May 16, 2018. The meeting sessions will take place at the Veterans of Foreign Wars Memorial Building, 200 Maryland Avenue NE, Washington, DC 20002. Sessions are open to the public, except when the Committee is conducting tours of VA facilities, participating in off-site events, participating in workgroup sessions, and conducting official Administrative business.

The purpose of the Committee is to advise the Secretary of Veterans Affairs on the administration of national cemeteries, soldiers' lots and plots, the selection of new national cemetery sites, the erection of appropriate memorials, and the adequacy of Federal burial benefits. The Committee will make recommendations to the Secretary regarding such activities.

On the morning of Tuesday, May 15, 2018, the Committee will convene with an open session at the Veterans of Foreign Wars, Memorial Building, 200 Maryland Avenue NE, Washington, DC 20002 from 8:30 a.m. to 4:00 p.m. eastern time. The agenda will include Ethics refresher training, introductions of new member appointments, and status updates on NCA's Long Range Plan, status updates from Ex-Officios, and the divesture of military cemeteries.

On May 16, 2018, the meeting will convene an open session at the Veterans of Foreign Wars Memorial Building, 200 Maryland Avenue NE, Washington, DC 20002 from 8:30 a.m.-4:00 p.m. During the morning session, the agenda will include status updates on the 2017 Recommendation for Digital Memorialization and the National Cemetery Scheduling Office. The Committee will also conduct a tour of the Congressional Cemetery, which will be closed to the Public. During the afternoon session, the agenda will include status updates on the remaining 2017 Recommendations, state and Tribal Veterans Cemeteries; and discussions on any new charges and next steps.

Any member of the public wishing to attend the meeting should contact Ms. Christine Hamilton, Designated Federal Officer, at (202) 461-5681. The Committee will also accept written comments. Comments may be transmitted electronically to the Committee at Christine.hamilton1@va.gov or mailed to the National Cemetery Administration (40A1), 810 Vermont Avenue NW, Room 400, Washington, DC 20420. In the public's communications with the Committee, the writers must identify themselves and state the organizations, associations, or persons they represent.

Dated: April 24, 2018.
LaTonya L. Small,
Federal Advisory Committee Management Officer.

[FR Doc. 2018-08980 Filed 4-27-18; 8:45 am]

BILLING CODE P